Title 3—

The President

Proclamation 10778 of June 18, 2024

Juneteenth Day of Observance, 2024

By the President of the United States of America

A Proclamation

On June 19, 1865, freedom finally came for the 250,000 enslaved people of Texas. That day, which would become known as Juneteenth, the Army arrived to enforce what had already been the law of the land for two and a half years—the Emancipation Proclamation. Today, we recognize that Juneteenth not only marks the end of America's original sin of slavery but also the beginning of the work at the heart and soul of our Nation: making the promise of America real for every American.

One of my proudest moments as President was signing into law Juneteenth as a new Federal holiday—the first Federal holiday to be established since Dr. Martin Luther King, Jr. Day four decades prior. Juneteenth is an acknowledgment of the truth of our Nation's history. It is about realizing the idea that America was founded on: All people are created equal and deserve to be treated equally throughout their lives. It is about the generations of brave Black leaders and selfless activists who never let us walk away from that idea, including Ms. Opal Lee, whom I awarded the Medal of Freedom for her work as the grandmother of Juneteenth, and former State Representative Al Edwards, who authored the bill to designate it a holiday in Texas.

My Administration is working to ensure we continue to deliver on that idea—creating a country that truly stands for freedom, justice, dignity, and opportunity for all. Today, record numbers of Black Americans have jobs and health insurance, and Black business ownership is growing at the fastest pace in over 30 years. We are investing more money than ever in Black families and communities. That includes the funding we are delivering to support predominantly Black neighborhoods that had been divided and left behind by segregation and racial discrimination, the checks we delivered that reduced Black child poverty to the lowest rate in history, the changes we have made to the appraisals process to root out biases that put Black homeowners at a disadvantage, and the over $16 billion investment in Historically Black Colleges and Universities so that we can ensure the next generation of Black leaders has equal opportunities for a quality education and pathways for economic mobility. We are working to rebuild and strengthen all of America by removing every lead pipe across our country, delivering affordable high-speed internet, forgiving $167 billion in student loan debt, and creating good-paying jobs that you can raise a family on. We are creating a new sense of pride and dignity in communities across the country.

As we work to make history, my Administration is also working to tell our Nation's history instead of erasing it. That is why I signed a law, which had been more than 100 years in the making, to designate lynching as a Federal hate crime. I designated the Emmett Till and Mamie Till-Mobley National Monument to preserve historic sites and cultural resources in Mississippi and Illinois so that we never forget the brutal lynching of Emmett Till in Mississippi in 1955 and the subsequent courage of his mother, Mamie Till-Mobley, who made sure our Nation would never forget her son. I have honored some of our country's greatest Black scholars, humanitarians, and artists, who dare to tell the good, bad, and truth of our Nation. We are writing new chapters of our history, and I am proud to have the most diverse Administration ever to tap into the full talents of our Nation—including the first Black woman Vice President of the United States, Kamala Harris—and to have appointed the first Black woman as a Justice on the United States Supreme Court, Ketanji Brown Jackson. Meanwhile, we are also working to secure the right to vote—with which anything is possible.

On Juneteenth, may we celebrate the essence of freedom that galvanized the country, the progress we have made in our Nation, and all that is possible when we march forward together. May we all recommit to redeeming the very soul of America—choosing love over hate, unity over division, and progress over retreat.

NOW, THEREFORE, I, JOSEPH R. BIDEN JR., President of the United States of America, by virtue of the authority vested in me by the Constitution and the laws of the United States, do hereby proclaim June 19, 2024, as Juneteenth Day of Observance. I call upon the people of the United States to acknowledge and condemn the history of slavery in our Nation and recognize how the impact of America's original sin remains. I call on every American to celebrate Juneteenth and recommit to working together to eradicate systemic racism and inequity in our society wherever they find it.

IN WITNESS WHEREOF, I have hereunto set my hand this eighteenth day of June, in the year of our Lord two thousand twenty-four, and of the Independence of the United States of America the two hundred and forty-eighth.

[FR Doc. 2024-13963

Filed 6-21-24; 11:15 am]

Billing code 3395-F4-P